DEPARTMENT OF COMMERCE

International Trade Administration

[A-570-868]

Folding Metal Tables and Chairs From the People's Republic of China: Extension of Time Limit for the Final Results of the Antidumping Duty Administrative Review

AGENCY: Import Administration, International Trade Administration, Department of Commerce.

DATES: Effective Date: November 12, 2010.

FOR FURTHER INFORMATION CONTACT: Lilit Astvatsatrian or Erin Kearney, AD/CVD Operations, Office 8, Import Administration, International Trade Administration, U.S. Department of Commerce, 14th Street and Constitution Avenue, NW., Washington, DC 20230; telephone: (202) 482-6412 or (202) 482-0167, respectively.

SUPPLEMENTARY INFORMATION:

Background

On July 29, 2009, the Department of Commerce (“Department”) published the initiation of the administrative review of the antidumping duty order on folding metal tables and chairs from the People's Republic of China (“PRC”). See Initiation of Antidumping and Countervailing Duty Administrative Reviews and Deferral of Administrative Review, 74 FR 37690 (July 29, 2009). On July 14, 2010, the Department published the preliminary results of review. See Folding Metal Tables and Chairs from the People's Republic of China: Preliminary Results of Antidumping Duty Administrative Review, 75 FR 40788 (July 14, 2010). The 2008-2009 administrative review covers the period June 1, 2008, through May 31, 2009 and a deferred administrative review for Feili Group (Fujian) Co., Ltd. and Feili Furniture Development Limited Quanzhou City covers the period June 1, 2007, through May 31, 2008.

Extension of Time Limit for Final Results of Review

Pursuant to section 751(a)(3)(A) of the Tariff Act of 1930, as amended (“Act”), the Department shall make a final determination in an administrative review of an antidumping duty order within 120 days after the date on which the preliminary results are published. The Act further provides, however, that the Department may extend that 120-day period to 180 days after the preliminary results if it determines it is not practicable to complete the review within the foregoing time period.

The Department finds that it is not practicable to complete the final results of the 2007-2008 deferred and 2008-2009 administrative reviews of folding metal tables and chairs from the PRC within the 120-day time limit due to the Department's adoption of a new labor valuation methodology for the final results. We find that additional time is needed to complete these final results. Therefore, in accordance with section 751(a)(3)(A) of the Act, the Department is extending the time period for completion of the final results of this review, which is currently due on November 11, 2010, by 60 days to January 10, 2011, which is the 180th day after publication of the preliminary results.

This notice is published in accordance with sections 751(a)(3)(A) and 777(i) of the Act.

Dated: November 5, 2010.
Susan H. Kuhbach,
Acting Deputy Assistant Secretary for Antidumping and Countervailing Duty Operations.

[FR Doc. 2010-28562 Filed 11-10-10; 8:45 am]

BILLING CODE 3510-DS-P